DEPARTMENT OF AGRICULTURE

Forest Service

Chippewa National Forest Resource Advisory Committee

AGENCY: Forest Service, USDA.

ACTION: Notice of meeting.

SUMMARY: The Chippewa National Forest Resource Advisory Committee will meet in Walker, Minnesota. The committee is meeting as authorized under the Secure Rural Schools and Community Self-Determination Act (Pub. L. 110-343) and in compliance with the Federal Advisory Committee Act. The purpose of the first meeting is to review and discuss a portion of the submitted project proposals, specifically those addressing road maintenance and watershed improvements. The purpose of the second meeting is to review all remaining submitted project proposals.

DATES: Two meetings will be held; on Wednesday, April 13th, at 9 a.m. and on Thursday, April 28th, at 9 a.m.

ADDRESSES: The meetings will be held at the Chase on the Lake Hotel, Basement Conference Room, 502 Cleveland Boulevard, Walker, MN 56484. Written comments should be sent to Chippewa National Forest RAC, 200 Ash Avenue, NW., Cass Lake, MN 56633. Comments may also be sent via e-mail to kgetting@fs.fed.us, or via facsimile to 218-335-8637.

All comments, including names and addresses when provided, are placed in the record and are available for public inspection and copying. The public may inspect comments received at the Chippewa National Forest Supervisors Office. Visitors are encouraged to call ahead to 218-335-8600 to facilitate entry into the building.

FOR FURTHER INFORMATION CONTACT: Kay K. Getting, Public Affairs Team Leader, Chippewa National Forest Supervisors Office, 218-335-8600. Individuals who use telecommunication devices for the deaf (TDD) may call the Federal Information Relay Service (FIRS) at 1-800-877-8339 between 8 a.m. and 8 p.m., Eastern Standard Time, Monday through Friday.

SUPPLEMENTARY INFORMATION: The meetings are open to the public. The following business will be conducted at each meeting: Review of previous meeting content, committee housekeeping, review of rules and criteria, recommending which projects discussed will be forwarded for further consideration and a Public Forum. The agenda and any applicable documents may be previewed at the Secure Rural Schools RAC Web site https://fsplaces.fs.fed.us/fsfiles/unit/wo/secure_rural_schools.nsf. Persons who wish to bring related matters to the attention of the Committee may file written statements with the Committee staff before or after the meeting. A public input session will be provided and individuals who make written requests by April 1st, 2011 will have the opportunity to address the Comittee at those sessions.

Dated: March 14, 2011.
Darla Lenz,
Chippewa National Forest Supervisor.

[FR Doc. 2011-6521 Filed 3-22-11; 8:45 am]

BILLING CODE 3410-11-P